DEPARTMENT OF HEALTH AND HUMAN SERVICES

Administration for Children and Families

Proposed Information Collection Activity; Comment Request

Title: How TANF Agencies Support Families Experiencing Homelessness.

OMB No.: New Collection.

Description: The Office of Planning, Research, and Evaluation (OPRE), Administration for Children and Families (ACF) at the U.S. Department of Health and Human Services (HHS) is conducting the, “How TANF Agencies Support Families Experiencing Homelessness,” project through a contract with Abt Associates in partnership with MEF Associates. This project will assist HHS in understanding the extent to which TANF agencies across the country are using TANF funds to serve and support families experiencing or are at-risk of homelessness. It also will document the approaches and strategies used by TANF agencies to serve these families. We are seeking OMB approval for four elements of the study: (1) The TANF Administrator Web Survey (tailored for both state and county respondents), (2) a Site Visit Discussion Guide for TANF staff, 3) a Site Visit Discussion Guide for Staff at Continuums of Care (CoC)/Partner Organizations, and 4) a Site Visit Focus Group Guide.

TANF Administrator Web Survey. We will administer an online survey to all state and territory TANF administrators as well as a selection of three county TANF administrators from each state. The survey will collect information about the agencies' overall approaches toward addressing family homelessness and the extent to which TANF funds, assessments, tools, additional services, and partners are used in these efforts.

Discussion protocols during site visits to TANF agencies. The study team will visit five purposefully selected TANF agencies. During these two-day visits, the project staff will use the Site Visit Discussion Guide for TANF Staff to conduct interviews with TANF office staff, use the Site Visit Focus Group Guide to convene focus groups of TANF participants experiencing or at-risk of homelessness, and use the Site Visit Discussion Guide for Staff at CoC/Partner Organizations to interview representatives from relevant homelessness organization partners, including CoCs.

Respondents: State, territory, and selected county TANF administrators; TANF agency staff who provide case management or services to address family homelessness; representatives from the local CoC, and as applicable, staff from other partner organizations that serve homeless families; TANF recipients experiencing or at-risk of homelessness.

Annual Burden Estimates
Instrument | Total number of respondents | Annual number of respondents | Number of responses per respondent | Average burden hours per response | Annual burden hours
TANF Administrator Web Survey (State and County) | 206 | 69 | 1 | .5 | 35
Site Visit Discussion Guide for TANF Staff | 50 | 17 | 1 | 1.5 | 26
Site Visit Discussion Guide for Staff at CoC/Partner Organizations | 20 | 7 | 1 | 1.5 | 11
Site Visit Focus Group Guide | 20 | 7 | 1 | 1.5 | 11

Estimated Total Annual Burden Hours: 83.

In compliance with the requirements of Section 3506(c)(2)(A) of the Paperwork Reduction Act of 1995, the Administration for Children and Families is soliciting public comment on the specific aspects of the information collection described above. Copies of the proposed collection of information can be obtained and comments may be forwarded by writing to the Administration for Children and Families, Office of Planning, Research, and Evaluation, 330 C Street SW, Washington, DC 20201, Attn: OPRE Reports Clearance Officer. Email address: OPREinfocollection@acf.hhs.gov. All requests should be identified by the title of the information collection.

The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Mary B. Jones,
ACF/OPRE Certifying Officer.

[FR Doc. 2018-10550 Filed 5-16-18; 8:45 am]

BILLING CODE 4184-09-P